DEPARTMENT OF COMMERCE

National Oceanic and Atmospheric Administration

[RTID 0648-XB003]

North Pacific Fishery Management Council; Public Meeting

AGENCY: National Marine Fisheries Service (NMFS), National Oceanic and Atmospheric Administration (NOAA), Commerce.

ACTION: Notice of web conference.

SUMMARY: The North Pacific Fishery Management Council (Council) Bering Sea Fishery Ecosystem Plan (BS FEP) Team will meet May 3, 2021, and from May 24, 2021, through May 25, 2021.

DATES: The meeting will be held on Monday, May 3, 2021, from 9 a.m. to 3 p.m. and on Monday, May 24, 2021, through Tuesday, May 25, 2021, from 9 a.m. to 3 p.m. Alaska Time.

ADDRESSES: The meeting will be a webconference. Join online through the link at https://meetings.npfmc.org/Meeting/Details/2024.

Council address: North Pacific Fishery Management Council, 1007 W 3rd Ave., Anchorage, AK 99501-2252; telephone: (907) 271-2809. Instructions for attending the meeting are given under SUPPLEMENTARY INFORMATION below.

FOR FURTHER INFORMATION CONTACT: Diana Evans, Council staff; phone; (907) 271-2809 and email: diana.evans@noaa.gov. For technical support, please contact administrative Council staff, email: npfmc.admin@noaa.gov.

SUPPLEMENTARY INFORMATION:

Agenda

Monday, May 3, 2021

The BS FEP team agenda will include a workshop on developing the Ecosystem Health Report Card.

Monday, May 24, 2021, Through Tuesday, May 25, 2021

The BS FEP team agenda will include (a) introductions and member updates; (b) reports from the FEP taskforces; (c) discussion about Council process and how FEP fits with other Council initiatives; (d) development of an Ecosystem Health Report Card; (e) research priorities; (f) new FEP initiatives, and (g) other business. The agenda is subject to change, and the latest version will be posted at https://meetings.npfmc.org/Meeting/Details/2024 prior to the meeting, along with meeting materials.

Connection Information

You can attend the meeting online using a computer, tablet, or smartphone; or by phone only. Connection information will be posted online at: https://meetings.npfmc.org/Meeting/Details/2024.

Public Comment

Public comment letters will be accepted and should be submitted electronically to https://meetings.npfmc.org/Meeting/Details/2024.

Authority: 16 U.S.C. 1801 et seq.

Dated: April 8, 2021.
Tracey L. Thompson,
Acting Deputy Director, Office of Sustainable Fisheries, National Marine Fisheries Service.

[FR Doc. 2021-07532 Filed 4-12-21; 8:45 am]

BILLING CODE 3510-22-P